DEPARTMENT OF HOMELAND SECURITY

Office of the Secretary

[Docket No. DHS-2014-0055]

Privacy Act of 1974; Department of Homeland Security United States Coast Guard-021 Appointment of Trustee or Guardian for Mentally Incompetent Personnel Files System of Records

AGENCY: Privacy Office, Department of Homeland Security.

ACTION: Notice of Privacy Act System of Records.

SUMMARY: In accordance with the Privacy Act of 1974, the Department of Homeland Security proposes to update and reissue a current Department of Homeland Security system of records titled, “Department of Homeland Security/United States Coast Guard-021 Appointment of Trustee or Guardian for Mentally Incompetent Personnel Files System of Records.” This system of records allows the Department of Homeland Security/United States Coast Guard to collect and preserve the records regarding the appointment of a trustee or guardian for mentally incompetent United States Coast Guard personnel. As a result of a biennial review of this system, DHS/United States Coast Guard is updating this system of records to update the system manager and address category. Additionally, this notice includes non-substantive changes to simplify the formatting and text of the previously published notice. This updated system will be included in the Department of Homeland Security's inventory of record systems.

DATES: Submit comments on or before December 1, 2014. This updated system will be effective December 1, 2014.

ADDRESSES: You may submit comments, identified by docket number DHS-2014-0055 by one of the following methods:

• Federal e-Rulemaking Portal: http://www.regulations.gov. Follow the instructions for submitting comments.

• Fax: 202-343-4010.

• Mail: Karen L. Neuman, Chief Privacy Officer, Privacy Office, Department of Homeland Security, Washington, DC 20528.

Instructions: All submissions received must include the agency name and docket number for this rulemaking. All comments received will be posted without change to http://www.regulations.gov, including any personal information provided.

Docket: For access to the docket to read background documents or comments received, please visit http://www.regulations.gov.

FOR FURTHER INFORMATION CONTACT: For general questions, please contact: Marilyn Scott-Perez (202-475-3515), Privacy Officer, Commandant (CG-61), United States Coast Guard, Mail Stop 7710, Washington, DC 20593. For privacy questions, please contact: Karen L. Neuman, (202) 343-1717, Chief Privacy Officer, Privacy Office, Department of Homeland Security, Washington, DC 20528.

SUPPLEMENTARY INFORMATION:

I. Background

In accordance with the Privacy Act of 1974, 5 U.S.C. 552a, the Department of Homeland Security (DHS)/United States Coast Guard (USCG) proposes to update and reissue a current DHS system of records titled, “DHS/USCG-021 Appointment of Trustee or Guardian for Mentally Incompetent Personnel Files System of Records.”

The collection and maintenance of this information will assist DHS/USCG in meeting its statutory obligation to maintain information on incompetent USCG military personnel, their dependents, and survivors for the purpose of determining eligibility for DHS/USCG benefits such as military retired pay or the Survivor Benefit Plan for dependents, and the closely-related Veterans Affairs benefits. As a result of a biennial review of the system, the system manager and address category have been updated to reflect the new mail stop.

Consistent with DHS's information sharing mission, information stored in the DHS/USCG-021 Appointment of Trustee or Guardian for Mentally Incompetent Personnel Files System of Records may be shared with other DHS components that have a need to know the information to carry out their national security, law enforcement, immigration, intelligence, or other homeland security functions. In addition, DHS/USCG may share information with appropriate federal, state, local, tribal, territorial, foreign, or international government agencies consistent with the routine uses set forth in this system of records notice. This updated system will be included in DHS's inventory of record systems.

II. Privacy Act

The Privacy Act embodies fair information practice principles in a statutory framework governing the means by which federal government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. As a matter of policy, DHS extends administrative Privacy Act protections to all individuals when systems of records maintain information on U.S. citizens, lawful permanent residents, and visitors.

Below is the description of the DHS/USCG-021 Appointment of Trustee or Guardian for Mentally Incompetent Personnel Files System of Records.

In accordance with 5 U.S.C. 552a(r), DHS has provided a report of this system of records to the Office of Management and Budget and to Congress.

System of Records

Department of Homeland Security (DHS)/USCG-021

System name:

DHS/USCG-021 Appointment of Trustee or Guardian for Mentally Incompetent Personnel.

Security classification:

Unclassified

System location:

USCG maintains records at the United States Coast Guard Headquarters in Washington, DC and field offices. Composite Health Care System is the information technology (IT) system in which records associated with this function are maintained.

Categories of individuals covered by the system:

Categories of individuals covered by this system include Coast Guard military personnel (regular, reserve, active duty, and retired) and their dependents or survivors who are mentally incompetent and the guardian or trustee.

Categories of records in the system:

• Individual's name;

• Guardian trustee's name and contact information;

• Information relating to the mental incompetence of certain Coast Guard personnel, their dependents, or survivors; and

• Records used to assist USCG officials in appointing guardian trustees to mentally incompetent USCG personnel.

Authority for maintenance of the system:

Departmental Regulations, 5 U.S.C. 301; 10 U.S.C. 1448, 1449; 14 U.S.C. 632; 37 U.S.C. 601-604; 33 CFR 49.05; 49 CFR 1.45, 1.46.

Purpose(s):

The purpose of this system is to maintain information on mentally incompetent USCG military personnel, their dependents, and survivors to determine eligibility for DHS/USCG benefits such as military retired pay or the Survivor Benefit Plan for survivors, and the closely-related Veterans Affairs benefits.

Routine uses of records maintained in the system, including categories of users and the purposes of such uses:

Note: This system of records contains individually identifiable health information. The Health Insurance Portability and Accountability Act of 1996, applies to most of such health information. Department of Defense 6025.18-R may place additional procedural requirements on the uses and disclosures of such information beyond those found in the Privacy Act of 1974 or mentioned in this system of records notice. Therefore, routine uses outlined below may not apply to such health information.

In addition to those disclosures generally permitted under 5 U.S.C. 552a(b) of the Privacy Act, all or a portion of the records or information contained in this system may be disclosed outside DHS as a routine use pursuant to 5 U.S.C. 552a(b)(3) as follows:

A. To the Department of Justice (DOJ), including Offices of the U.S. Attorneys, or other federal agency conducting litigation or in proceedings before any court, adjudicative, or administrative body, when it is relevant or necessary to the litigation and one of the following is a party to the litigation or has an interest in such litigation:

1. DHS or any component thereof;

2. Any employee or former employee of DHS in his/her official capacity;

3. Any employee or former employee of DHS in his/her individual capacity when DOJ or DHS has agreed to represent the employee; or

4. The U.S. or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise, there is a risk of identity theft or fraud, harm to economic or property interests, harm to an individual, or harm to the security or integrity of this system or other systems or programs (whether maintained by DHS or another agency or entity) that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To prospective or approved guardian trustees or appointees, including but not limited to relatives, lawyers, and physicians or other designated representatives.

I. To the Department of Veteran's Affairs upon request for the determination of eligibility for benefits administered by that agency.

J. To the news media and the public, with the approval of the Chief Privacy Officer in consultation with counsel, when there exists a legitimate public interest in the disclosure of the information, when disclosure is necessary to preserve confidence in the integrity of DHS, or when disclosure is necessary to demonstrate the accountability of DHS's officers, employees, or individuals covered by the system, except to the extent the Chief Privacy Officer determines that release of the specific information in the context of a particular case would constitute an unwarranted invasion of personal privacy.

Disclosure to consumer reporting agencies:

None.

Policies and practices for storing, retrieving, accessing, retaining, and disposing of records in the system:

Storage:

DHS/USCG stores records in this system electronically or on paper in secure facilities in a locked drawer behind a locked door. The records may be stored on magnetic disc, tape, and digital media.

Retrievability:

DHS/USCG retrieves records alphabetically by name.

Safeguards:

DHS/USCG safeguards records in this system according to applicable rules and policies, including all applicable DHS automated systems security and access policies. USCG has imposed strict controls to minimize the risk of compromising the information that is being stored. Access to the computer system containing the records in this system is limited to those individuals who have a need to know the information for the performance of their official duties and who have appropriate clearances or permissions.

Retention and disposal:

Records are retained for five years after action is complete, then destroyed. (AUTH: NC1-26-76-2, Item 577)

System Manager and address:

Commandant (CG-12), United States Coast Guard, Mail Stop 7907, Washington, DC 20593-0001.

Notification procedure:

Individuals seeking notification of and access to any record contained in this system of records, or seeking to contest its content, may submit a request in writing to the Chief Privacy Officer and USCG's FOIA Officer, whose contact information can be found at http://www.dhs.gov/foia under “Contacts.” If an individual believes more than one component maintains Privacy Act records concerning him or her, the individual may submit the request to the Chief Privacy Officer and Chief Freedom of Information Act Officer, Department of Homeland Security, 245 Murray Drive SW., Building 410, STOP-0655, Washington, DC 20528.

When seeking records about yourself from this system of records or any other Departmental system of records, your request must conform with the Privacy Act regulations set forth in 6 CFR Part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov/foia or 1-866-431-0486. In addition, you should:

• Explain why you believe the Department would have information on you;

• Identify which component(s) of the Department you believe may have the information about you;

• Specify when you believe the records would have been created; and

• Provide any other information that will help the FOIA staff determine which DHS component agency may have responsive records;

If your request is seeking records pertaining to another living individual, you must include a statement from that individual certifying his/her agreement for you to access his/her records.

Without the above information, the component(s) may not be able to conduct an effective search, and your request may be denied due to lack of specificity or lack of compliance with applicable regulations.

Record access procedures:

See “Notification procedure” above.

Contesting record procedures:

See “Notification procedure” above.

Record source categories:

Records are obtained from U.S. Coast Guard officials, legal representatives of individuals, and/or individuals concerned, medical personnel, and complainants.

Exemptions claimed for the system:

None.

Dated: October 17, 2014.
Karen L. Neuman
Chief Privacy Officer, Department of Homeland Security.

[FR Doc. 2014-25906 Filed 10-30-14; 8:45 am]

BILLING CODE 9110-04-P